DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Survey of Medicaid Directors Regarding Medicaid Mental Health Services and Policy—New

The Substance Abuse and Mental Health Services Administration (SAMHSA) will conduct a survey of State Medicaid directors to learn about the relationships between State mental health authorities and State Medicaid agencies in each State and the District of Columbia. In addition, SAMHSA will ask about the administration of Medicaid mental health services, the development of Medicaid mental health policy, mental health services statistics generated by Medicaid programs, and the characteristics of mental health-related data maintained by Medicaid agencies and used by mental health and other state agencies.

The survey will contact State Medicaid directors in all fifty States (and the District of Columbia) and will gather information on the following five survey domains: Organization structure; Medicaid mental health services policy infrastructure; Medicaid mental health services, rates, and funding; Medicaid mental health providers; and, Data.

The survey will identify and describe, at the State level, how Medicaid mental health policy is developed; whether Medicaid mental health services and providers are treated differently from other Medicaid services and providers, and if so, how; and the availability of data and reports on Medicaid mental health service use/and or expenditures.

This information collection supports the New Freedom Initiative, one of SAMHSA's current priorities. As part of this effort, the President launched the New Freedom Commission on Mental Health to address the problems in the current mental health system. The Commission noted that fragmentation of responsibility for mental health services is a serious problem at the State level. Two of the Commission's 19 recommendations for the improvement of the mental health system were aimed at this problem. One was directed to States (create a comprehensive State mental health plan) and the other to the Federal government (align relevant Federal programs to improve access and accountability for mental health services). This survey is aimed at providing information that can help in carrying out these recommendations by further illuminating the relationships between State Medicaid and mental health agencies in the development and implementation of mental health policy.

Telephone interviews will be conducted with State Medicaid directors. Each interview will last one hour. Because of the open-ended nature of many of the survey questions and the general reluctance of State Medicaid directors to complete detailed paper or electronic surveys, we propose to conduct all the interviews by telephone, unless interviewees prefer to respond to a paper or electronic version.

Estimates of Annualized Hour Burden
Number of respondents | Responses per respondent | Hours per response | Total hour burden
51 | 1 | 1 | 51

Written comments and recommendations concerning the proposed information collection should be sent by February 23, 2005, to: SAMHSA Desk Officer, Human Resources and Housing Branch, Office of Management and Budget, New Executive Office Building, Room 10235, Washington, DC 20503; due to potential delays in OMB's receipt and processing of mail sent through the U.S. Postal Service, respondents are encouraged to submit comments by fax to: (202) 395-6974.

Dated: January 13, 2005.
Anna Marsh,
Executive Officer, SAMHSA.

[FR Doc. 05-1217 Filed 1-21-05; 8:45 am]

BILLING CODE 4162-20-M